DEPARTMENT OF AGRICULTURE

Forest Service

Deschutes Provincial Interagency Executive Committee (PIEC), Advisory Committee

AGENCY: Forest Service, Interior.

ACTION: Notice of meeting.

SUMMARY: The Deschutes PIEC Advisory Committee will meet on June 20-21, 2001. The first day will be a field trip starting at 9:00 am at the Maupin, Oregon Visitor's Center for a tour of developed sites to view improvements and to discuss a variety of issues. The second day will be a business meeting starting at 0900 at the Jefferson County Firehall on the corner of Adam and “J” Street in Madras, Oregon. Agenda items will include a presentation on the Regional Recreation and the National Fire Plan strategies. The remainder of the day will include member's goal setting and tasks, Info Sharing and a Public Forum from 4:00 pm till 4:30 pm. All Deschutes Province Advisory Committee Meetings are open to the public.

FOR FURTHER INFORMATION CONTACT: Mollie Chaudet, Province Liaison, USDA, Bend-Ft. Rock Ranger District, 1230 N.E. 3rd., Bend, OR, 97701, Phone (541) 416-6872.

Dated: June 6, 2001.
Leslie A.C. Weldon,
Deschutes National Forest Supervisor.

[FR Doc. 01-14718 Filed 6-11-01; 8:45 am]

BILLING CODE 3410-11-M